DEPARTMENT OF HOMELAND SECURITY

Coast Guard

33 CFR Part 117

[Docket No. USCG-2018-0111]

Drawbridge Operation Regulation; Passaic River, Harrison, NJ

AGENCY: Coast Guard, DHS.

ACTION: Notice of deviation from drawbridge regulation.

SUMMARY: The Coast Guard has issued a temporary deviation from the operating schedule that governs the Route 280 Bridge across the Passaic River, mile 5.8, at Harrison, New Jersey. The deviation is necessary to perform work on the switch gear power source of the bridge. This deviation allows the bridge to undergo necessary maintenance for Route 21 interchange improvements. This deviation allows the bridge to remain closed during the maintenance period.

DATES: This deviation is effective from 12:01 a.m. on March 1, 2018, until 11:59 p.m. on March 7, 2018.

ADDRESSES: The docket for this deviation, USCG-2018-0111, is available at http://www.regulations.gov. Type the docket number in the “SEARCH” box and click “SEARCH.” Click on Open Docket Folder on the line associated with this deviation.

FOR FURTHER INFORMATION CONTACT: If you have questions on this temporary deviation, call or email Judy K. Leung-Yee, Bridge Management Specialist, First District Bridge Branch, U.S. Coast Guard; telephone 212-514-4336, email Judy.K.Leung-Yee@uscg.mil.

SUPPLEMENTARY INFORMATION: The owner of the bridge, the New Jersey Department of Transportation, requested a temporary deviation in order to perform work on the switch gear power source of the bridge.

The Route 280 Bridge across the Passaic River, mile 5.8, at Harrison, New Jersey is a vertical lift bridge with a vertical clearance of 35 feet at mean high water and 40 feet at mean low water in the closed position. The existing drawbridge operating regulations are listed at 33 CFR 117.739(h).

This temporary deviation will allow the Route 280 Bridge to remain in the closed position from 12:01 a.m. on March 1, 2018, to 11:59 p.m. on March 7, 2018. The deviation will have negligible effect on navigation. The waterway is transited by recreational and commercial vessels. Coordination with waterway users has indicated no objection to the proposed closure of the draw. Vessels that can pass under the bridge without an opening may do so at all times. The bridge will not be able to open for emergencies. There is no alternate route for vessels to pass.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: February 27, 2018.
Christopher J. Bisignano,
Supervisory Bridge Management Specialist, First Coast Guard District.

[FR Doc. 2018-04249 Filed 3-1-18; 8:45 am]

BILLING CODE 9110-04-P